DEPARTMENT OF TRANSPORTATION

Federal Motor Carrier Safety Administration

Fiscal Year 2010 Safety Grants

AGENCY: Federal Motor Carrier Safety Administration (FMCSA), DOT.

ACTION: Notice.

SUMMARY: This notice is to inform the public of FMCSA's Fiscal Year (FY) 2010 safety grant opportunities and FMCSA's changes to its application and award processes for grant programs. The Agency instituted procedural changes in an effort to simplify and streamline its grants application and award processes. The 11 safety programs include the Motor Carrier Safety Assistance Program (MCSAP) Basic grants; MCSAP Incentive grants; MCSAP New Entrant Safety Audit grants; MCSAP High Priority grants; Commercial Motor Vehicle (CMV) Operator Safety Training grants; Border Enforcement grants (BEG); Commercial Driver's License Program Improvement (CDLPI) grants; Commercial Driver's License Information System (CDLIS) Modernization grants; Performance and Registration Information Systems Management (PRISM) grants; Safety Data Improvement Program grants (SaDIP); and the Commercial Vehicle Information Systems and Networks (CVISN) grants. Each grant program was provided for in the Agency's most recent authorization, the Safe, Accountable, Flexible, Efficient Transportation Equity Act: A Legacy for Users (SAFETEA-LU). The purpose of this notice is to provide grantees with information on the Agency's FY 2010 safety grant application deadlines.

FOR FURTHER INFORMATION CONTACT: Please contact the following FMCSA staff with questions or needed information on the Agency's grant programs:

MCSAP New Entrant Safety Audit Grants—Arthur Williams, arthur.williams@dot.gov, 202-366-3695, Border Enforcement Grants—Carla Vagnini, carla.vagnini@dot.gov, 202-366-3771, MCSAP High Priority Grants—Cim Weiss, cim.weiss@dot.gov, 202-366-0275, CMV Operator Safety Training Grants—Julie Otto, julie.otto@dot.gov, 202-366-0710, CDLPI Grants—Brandon Poarch, brandon.poarch@dot.gov, 202-366-3030, CDLIS Modernization Grants—Brandon Poarch, brandon.poarch@dot.gov, 202-366-3030, SaDIP Grants—Betsy Benkowski, betsy.benkowski@dot.gov, 202-366-4808, PRISM Grants—Tom Lawler, tom.lawler@dot.gov, 202-366-3866, CVISN Grants—Julie Lane, julie.lane@dot.gov, 202-385-2391.

All staff may be reached at FMCSA, 1200 New Jersey Avenue, SE., Washington, DC 20590. Office hours are from 9 a.m. to 5 p.m., EST, Monday through Friday, except Federal holidays.

SUPPLEMENTARY INFORMATION:

Regulatory History

On March 24, 2009, FMCSA published a notice with request for comments in the Federal Register (74 FR 12437) regarding the establishment of Fiscal Year (FY) 2010 grant application due dates and other grant program changes.

Background and Purpose

FMCSA recognizes that State governments and other grantees are dependent on its safety grants to develop and maintain important commercial motor vehicle (CMV) safety programs. FMCSA further acknowledges that delays in awarding grant funds may have an adverse impact on these important safety programs. As a result, FMCSA conducted a grants process review, in an effort to identify ways to streamline the application, award, and grants management processes, and to award grant funds earlier each fiscal year. In addition, FMCSA made changes in the grants application, award and oversight processes to standardize application forms, increase the use of electronic documents, standardize quarterly reports and reduce the number of needed grant amendments.

Discussion of Comments

Five comments were received in the docket. All commenters supported FMCSA's changes, especially any efforts to award funds earlier in the fiscal year. One commenter suggested delaying on the proposed application dates until FY 2011. Another commenter suggested one due date for all grants. Other comments included suggestions beyond the scope of FMCSA's current changes. This information will be considered during future grant program modifications.

FY 2010 Safety Grants Program

First, the schedule for the FY 2010 grant applications is as follows:

MCSAP Basic and Incentive Grants—August 1, 2009.

New Entrant Safety Audit Grants—September 1, 2009.

Border Enforcement Grants—September 15, 2009.

CMV Operator Safety Training Grants—October 1, 2009.

SaDIP Grants—October 2, 2009.

MCSAP High Priority Grants—October 15, 2009.

CDLPI Grants—November 1, 2009.

CDLIS Modernization Grants—November 15, 2009.

PRISM Grants—December 1, 2009.

CVISN Grants—December 1, 2009.

Second, consistent with its contract authority, FMCSA will enter into grant agreements beginning October 1 or as soon thereafter as administratively practicable. FMCSA intends to enter into grant agreements no later than 90 days from the date the application is due but not prior to October 1.

Third, for all grants other than MCSAP Basic and Incentive, FMCSA will use a standard grant application form and a new quarterly reporting process. In its grant announcements on grants.gov, FMCSA will use Standard Form 424 (“Application for Federal Assistance”) and its attachments for all of its grant programs. While each grant program may request different data in some of the data fields on the form, the use of the Standard Form 424 will be mandatory. FMCSA must adopt the Standard Form—Project Progress Report (SF-PPR) as its preferred form for quarterly reporting. Therefore, the SF-PRR would be mandatory for quarterly reporting. However, individual grant programs may require additional SF-PRR attachments. Additional guidance will be provided to grant recipients upon award.

Fourth, FMCSA is increasing the use of electronic documents. As a result, the number of original copies of grant agreements required to be signed by Grantees and submitted to FMCSA is now two. In addition, FMCSA will provide most grant agreement documents electronically to its financial processing office. Grantees are, however, still required to submit the Automated Clearing House (ACH) Vendor Payment Form (SF-3881) directly to FMCSA's financial processing office by U.S. Postal Service, courier service or secure fax.

Application Information for FY 2010 Grants

General information about FMCSA grant programs is available in the Catalog of Federal Domestic Assistance which can be found on the internet at http://www.cfda.gov. To apply for funding, applicants must register with grants.gov at http://www.grants.gov/applicants/get-registered.jsp and submit an application in accordance with instructions provided for each grant program.

If funds remain available within each grant program, applications filed after the deadline will be considered.

Evaluation Factors: The following evaluation factors will be used in reviewing the applications for all FMCSA discretionary grants:

(1) Prior performance—Completion of identified programs and goals per the project plan.

(2) Effective Use of Prior Grants—Demonstrated timely use and expensing of available funds.

(3) Cost Effectiveness—Applications will be evaluated and prioritized on the expected safety impact relative to the investment of grant funds. Where appropriate, costs per unit will be calculated and compared with national averages to determine effectiveness. In other areas, proposed costs will be compared with historical information to confirm reasonableness.

(4) Applicability to announced priorities—If national priorities are included in the grants.gov notice, those proposals that specifically address these issues will be given priority consideration.

(5) Ability of the applicant to support the strategies and activities in the proposal for the entire project period of performance.

(6) Use of innovative approaches in executing a project plan to address identified safety issues.

(7) Feasibility of overall program coordination and implementation based upon the project plan.

(8) Grant specific evaluation factors as described in the grants.gov application information.

Issued on: August 6, 2009.
William A. Quade,
Associate Administrator for Enforcement and Program Delivery.
David Anewalt,
Acting Associate Administrator for Research and Information Technology.

[FR Doc. E9-19285 Filed 8-11-09; 8:45 am]

BILLING CODE 4910-EX-P